DEPARTMENT OF DEFENSE

Department of the Army

Department of the Army Performance Review Board Membership

AGENCY: Department of the Army, DoD.

ACTION: Notice.

SUMMARY: This document amends the previous notice published in the Federal Register on Friday, November 2, 2022. This notice respectively amends the total number of names from 87 to 89.

DATES: The term began on November 1, 2022.

FOR FURTHER INFORMATION CONTACT: Barbara Smith, Civilian Senior Leader Management Office, 111 Army Pentagon, Washington, DC 20310-0111, Barbara.M.Smith.civ@army.mil or Phone (703) 693-1126.

SUPPLEMENTARY INFORMATION:

Amendment

In the Federal Register of November 2, 2022, in FR Doc 87 FR 66167 the SUPPLEMENTARY INFORMATION is amended to read:

The list is amended to add the following participants to the list of Performance Review Board members:

1. Ms. Denise A. Council-Ross, Principal Deputy General Counsel, Office of the General Counsel

2. HON Rachel Jacobson, Assistant Secretary of the Army, (Installations, Energy and Environment), Office of Assistant Secretary of the Army, (Installations, Energy and Environment)

James W. Satterwhite Jr.,
Army Federal Register Liaison Officer.

[FR Doc. 2022-27229 Filed 12-14-22; 8:45 am]

BILLING CODE 3711-02-P